DEPARTMENT OF THE TREASURY

Proposed Collection; Requesting Comments on Tax-Exempt Organization Forms

AGENCY: Departmental Offices, U.S. Department of the Treasury.

ACTION: Notice.

SUMMARY: The Internal Revenue Service, as part of its continuing effort to reduce paperwork and respondent burden, invites the public and other federal agencies to take this opportunity to comment on proposed and/or continuing information collections, as required by the Paperwork Reduction Act of 1995. The IRS is soliciting comments concerning forms used by tax-exempt organizations.

DATES: Comments should be received on or before January 21, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

Title: U.S. Tax-Exempt Organization Return.

OMB Number: 1545-0047.

Form Numbers: Forms 990, 990-EZ, 990-N, 990-PF, 990-T, 1023, 1023-EZ, 1024, 1024-A, 1028, 1120-POL, 4720, 5578, 5884-C, 5884-D, 6069, 6497, 7203, 8038, 8038-B, 8038-CP, 8038-G, 8038-GC, 8038-R, 8038-T, 8038-TC, 8282, 8328, 8330, 8453-TE., 8453-X, 8718, 8868, 8870, 8871, 8872, 8879-TE, 8886-T, 8899 and all other related forms, schedules, and attachments.

Abstract: These forms and schedules are used to determine that tax-exempt organizations fulfill the operating conditions within the limitations of their tax exemption. The data is also used for general statistical purposes.

Current Actions: There have been changes in regulatory guidance related to various forms approved under this approval package during the past year. There have been additions and removals of forms included in this approval package. This approval package is being submitted for renewal purposes.

Type of Review: Revision of a currently approved collection.

Affected Public: Tax-Exempt Organizations.

Estimated Number of Respondents: 1,711,300.

Estimated Time per Respondent (Hours): 42 hours, 55 minutes.

Estimated Total Annual Time (Hours): 73,440,000.

Estimated Total Annual Monetized Time ($): 3,887,000,000.

Estimated Total Out-of-Pocket Costs ($): 1,963,400,000.

Estimated Total Monetized Burden ($): 5,850,400,000.

Note: Total Monetized Burden = Total Out-of-Pocket Costs + Total Monetized Time.

These are forms used by tax-exempt organizations. These include Forms 990, 990-EZ, 990-N, 990-PF, 990-T, and related forms and schedules tax-exempt organizations attach to their returns. In addition, there are numerous Treasury Decisions and guidance documents that are covered by the burden estimate provided in this Notice. See Appendix B for a list.

Tax Compliance Burden

Tax compliance burden is defined as the time and money taxpayers spend to comply with their tax filing responsibilities. Time-related activities include recordkeeping, tax planning, gathering tax materials, learning about the law and what you need to do, and completing and submitting the return. Out-of-pocket costs include expenses such as purchasing tax software, paying a third-party preparer, and printing and postage. Tax compliance burden does not include a taxpayer's tax liability, economic inefficiencies caused by sub-optimal choices related to tax deductions or credits, or psychological costs.

Burden Total Estimates for the Form 990 Series of Returns and Associated Forms, Schedules, and Regulations
[Fiscal year 2025]
| Fiscal year 2024 | Program change due to technical adjustment | Program change due to legislative adjustment | Program change due to agency adjustment | Fiscal year 2025
Number of Taxpayers | 1,698,500 | 12,800 |  |  | 1,711,300
Burden in Hours | 75,490,000 | (2,050,000) |  |  | 73,440,000
Burden in Monetized Hours | $3,903,500,000 | ($16,500,000) |  |  | $3,887,000,000
Out-of-Pocket Costs | $1,978,500,000 | ($15,100,000) |  |  | $1,963,400,000
Total Monetized Burden * | $5,882,000,000 | ($31,600,000) |  |  | $5,850,400,000
Source: IRS:RAAS:KDA:BRDN (12-10-24).
Total Monetized Burden = Burden in Monetized Hours + Out-of-Pocket Costs.
Note: Reported time and cost burdens are national averages and do not necessarily reflect a “typical” case. Most taxpayers experience lower than average burden, with taxpayer burden varying considerably by taxpayer type. Detail may not add due to rounding.

Authority: 44 U.S.C. 3501 et seq.

Melody Braswell,
Treasury PRA Clearance Officer.

[FR Doc. 2024-30067 Filed 12-18-24; 8:45 am]

BILLING CODE 4830-01-P